SECURITIES AND EXCHANGE COMMISSION

[Release No. 34-58778; File No. SR-CBOE-2008-90]

Self-Regulatory Organizations; Chicago Board Options Exchange, Incorporated; Order Granting Approval of a Proposed Rule Change Related to Trades in Restricted Classes

October 14, 2008.

Correction

In notice document E8-24971 beginning on page 62577 in the issue of Tuesday, October 21, 2008, the date is corrected to read as set forth above.

[FR Doc. Z8-24971 Filed 10-31-08; 8:45 am]

BILLING CODE 1505-01-D